DEPARTMENT OF HOMELAND SECURITY

Federal Emergency Management Agency

44 CFR Part 9

[Docket ID: FEMA-2015-0006]

RIN 1660-AA85

Updates to Floodplain Management and Protection of Wetlands Regulations To Implement Executive Order 13690 and the Federal Flood Risk Management Standard

AGENCY: Federal Emergency Management Agency, DHS.

ACTION: Proposed rule; withdrawal.

SUMMARY: The Federal Emergency Management Agency (FEMA) withdraws a notice of proposed rulemaking (NPRM) that published on August 22, 2016. The NPRM proposed changes to FEMA's “Floodplain Management and Protection of Wetlands” regulations to implement Executive Order 13690, which established the Federal Flood Risk Management Standard (FFRMS). FEMA also withdraws the proposed supplementary policy (FEMA Policy: 078-3), which clarified how FEMA would apply the FFRMS. On August 15, 2017, the President issued Executive Order 13807, which revoked Executive Order 13690. Accordingly, the NPRM and supplementary policy are withdrawn.

DATES: FEMA is withdrawing the proposed rule published August 22, 2016 (81 FR 57402) as of March 6, 2018.

ADDRESSES: The docket for this withdrawn rulemaking is available on the internet at http://www.regulations.gov.

FOR FURTHER INFORMATION CONTACT: Kristin Fontenot, Director, Office of Environmental Planning and Historic Preservation (OEHP), Federal Insurance and Mitigation Administration, DHS/FEMA, 400 C Street SW, Suite 313, Washington, DC 20472-3020. Phone: 202-646-2741; Email: Kristin.Fontenot@fema.dhs.gov.

SUPPLEMENTARY INFORMATION: On August 22, 2016, FEMA published an NPRM entitled “Updates to Floodplain Management and Protection of Wetlands Regulations To Implement Executive Order 13690 and the Federal Flood Risk Management Standard” in the Federal Register (81 FR 57402). This rulemaking proposed to revise FEMA's regulations on “Floodplain Management and Protection of Wetlands” to implement Executive Order 13690 (“Establishing a Federal Flood Risk Management Standard and a Process for Further Soliciting and Considering Stakeholder Input”), which amended Executive Order 11988 (“Floodplain Management”) and established the FFRMS. FEMA also proposed a supplementary policy entitled “FEMA Policy: Guidance for Implementing the Federal Flood Risk Management Standard (FFRMS)” (FEMA Policy 078-3), which would have further clarified how FEMA would apply the FFRMS. The notice of availability and request for comments for the supplementary policy also published in the August 22, 2016 Federal Register at 81 FR 56558.

On August 15, 2017, the President issued Executive Order 13807 (“Establishing Discipline and Accountability in the Environmental Review and Permitting Process for Infrastructure Projects”) which revoked Executive Order 13690. See 82 FR 40463, Aug. 24, 2017. Executive Order 13807 left in place Executive Order 11988, which provides for uniform floodplain management standards and procedures across the Executive Branch, and which is currently reflected in FEMA regulations. See 44 CFR part 9. Accordingly, in light of the revocation of Executive Order 13690, FEMA is withdrawing the NPRM and supplementary policy. FEMA will continue to seek more effective ways in its programs to assess and reduce the risk of current and future flooding and increase community resilience.

Executive Order 13771

The withdrawal of the NPRM qualifies as a deregulatory action under Executive Order 13771. See OMB's Memorandum titled “Guidance Implementing Executive Order 13771, Titled `Reducing Regulation and Controlling Regulatory Costs' ” (April 5, 2017).

Authority

Executive Order 11988, Floodplain Management, as amended; 42 U.S.C. 5201 et seq.

Dated: February 27, 2018.
Brock Long,
Administrator, Federal Emergency Management Agency.

[FR Doc. 2018-04495 Filed 3-5-18; 8:45 am]

BILLING CODE 9111-66-P